DEPARTMENT OF THE TREASURY

Submission for OMB Review; Comment Request

June 22, 2009.

The Department of the Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before August 24, 2009 to be assured of consideration.

Office of Foreign Assets Control

OMB Number: 1505-0170.

Type of Review: Extension.

Title: Form for OFAC License Applications to Unblock Funds Transfers.

Form: TD-F-90-22.54.

Description: Assets blocked pursuant to sanctions administered by Office of Foreign Assets Control (OFAC) may be released only through a specific license issued by OFAC. Since February 2000, use of this form to apply for the unblocking of funds transfers has been mandatory pursuant to 31 CFR 501.801(b)(2). Use of this form greatly facilitates and speeds applicants' submissions and OFAC's processing.

Respondents: Individuals or households.

Estimated Total Reporting Burden: 2,500 hours.

Clearance Officer: Stephanie Petersen, (202) 622-0596, Treasury Annex, Room 2141, Washington, DC 20220.

OMB Reviewer: OIRA Desk Officer, Office of Management and Budget, Room 10235, New Executive Office Building, Washington, DC 20503, oira_submission@omb.eop.gov.

Robert Dahl,
Treasury PRA Clearance Officer.

[FR Doc. E9-14999 Filed 6-24-09; 8:45 am]

BILLING CODE 4810-25-P